GENERAL SERVICES ADMINISTRATION

Governmentwide Per Diem Advisory Board

AGENCY: Office of Governmentwide Policy, GSA.

ACTION: Notice of meeting.

SUMMARY: Notice is hereby given that the Governmentwide Per Diem Advisory Board (“the Board”) will hold an open meeting from 9 a.m. to 11:30 a.m. on Friday, January 24, 2003. The meeting will be held at The American Institute of Architects Board Room, 1735 New York Ave., NW., Washington, DC 20006. This meeting is open to the public. Members of the public who wish to file a statement with the Board may do so in writing c/o Rob Miller, Designated Federal Officer (MTT), General Services Administration, 1800 F St., NW., Room 1221B, Washington, DC 20405, or via e-mail at robl.miller@gsa.gov.

Purpose: To review the current process and methodology that is used by GSA's Office of Governmentwide Policy to determine the per diem rates for destinations within the Continental United States (CONUS), and to provide advice on best practices for a Federal lodging program. The Board will present its recommendations for improving the per diem process, and best practices for a Governmentwide lodging program.

For building access: (1) ADA accessible facility; (2) public seating is limited.

FOR FURTHER INFORMATION CONTACT: Rob Miller (202) 501-4621, Designated Federal Officer, or Joddy Garner (202) 501-4857, Per Diem Program Manager, General Services Administration. Also, inquiries may be sent to robl.miller@gsa.gov.

Dated: December 31, 2002.
Becky Rhodes,
Deputy Associate Administrator, Office of Transportation and Personal Property.

[FR Doc. 03-1281 Filed 1-21-03; 8:45 am]

BILLING CODE 6820-14-P